DEPARTMENT OF STATE

[Public Notice 4967]

Announcement of Meetings of the International Telecommunication Advisory Committee

SUMMARY: The International Telecommunication Advisory Committee will meet in March, April, and May to prepare positions for the next meeting of the ITU Council Working Group on the International Telecommunication Regulations (WGITR). Members of the public will be admitted to the extent that seating is available, and may join in the discussions, subject to the instructions of the Chair.

The International Telecommunication Advisory Committee (ITAC) will meet on the following dates at the offices of Squire Sanders & Dempsey, 1201 Pennsylvania Avenue NW, Washington, DC to prepare for the next meeting of the ITU Council Working Group on the International Telecommunication Regulations (WGITR): Thursday, March 24, 9-11 a.m.; Wednesday, April 6 2-4 p.m.; Wednesday, April 20 9-11 a.m.; and Tuesday, May 3, 9-11 a.m. Directions to the meeting location and conference bridge information may be obtained by calling the ITAC Secretariat at (202) 647-2593.

Dated: February 22, 2005.
Anne Jillson,
Foreign Affairs Officer, International Communications & Information Policy, Department of State.

[FR Doc. 05-4459 Filed 3-7-05; 8:45 am]

BILLING CODE 4710-45-P